DEPARTMENT OF ENERGY

Federal Energy Regulatory Commission

Combined Notice of Filings #1

October 15, 2009.

Take notice that the Commission received the following electric corporate filings:

Docket Numbers: EC10-4-000.

Applicants: Cross-Sound Cable Company, LLC.

Description: Burgundy Acquisition I Ltd. et al. submits the Application for Authorization Under Section of the Federal Power Act for Expedited Consideration etc.

Filed Date: 10/13/2009.

Accession Number: 20091015-0072.

Comment Date: 5 p.m. Eastern Time on Friday, October 23, 2009.

Take notice that the Commission received the following electric rate filings:

Docket Numbers: ER97-4257-014.

Applicants: Mid-Power Service Corporation.

Description: Mid-Power Service Corporation submits Triennial Market Analysis for the period ended 9/30/09.

Filed Date: 10/13/2009.

Accession Number: 20091014-0079.

Comment Date: 5 p.m. Eastern Time on Monday, December 14, 2009.

Docket Numbers: ER09-1538-001.

Applicants: Carolina Power & Light Company.

Description: Carolina Power & Light Company submits its compliance filing which concerns a cost-based load following power sales agreement with North Carolina Electric Membership Corporation.

Filed Date: 10/14/2009.

Accession Number: 20091015-0092.

Comment Date: 5 p.m. Eastern Time on Wednesday, November 4, 2009.

Docket Numbers: ER09-1634-001.

Applicants: Midwest Independent Transmission System Operator, Inc.

Description: Midwest Independent Transmission System Operator, Inc submits a corrected Adjacent Balancing Authority Coordination Agreement filed on 8/26/09 with the Omaha Public Power District, effective 9/1/09.

Filed Date: 10/14/2009.

Accession Number: 20091015-0069.

Comment Date: 5 p.m. Eastern Time on Wednesday, November 4, 2009.

Docket Numbers: ER10-27-001.

Applicants: Midwest Independent Transmission System Operator, Inc.

Description: Midwest Independent Transmission System Operator, Inc. submits an amendment to proposed Attachment RR of the Midwest ISO Open Access Transmission, Energy and Operating Reserve Markets Tariff.

Filed Date: 10/14/2009.

Accession Number: 20091014-0092.

Comment Date: 5 p.m. Eastern Time on Wednesday, November 4, 2009.

Docket Numbers: ER10-34-000.

Applicants: Energy Consulting Services, LLC.

Description: Energy Consulting Services, LLC submits Petition for Acceptance of Initial Tariff, Waivers and Blanket Authority.

Filed Date: 10/14/2009.

Accession Number: 20091014-0089.

Comment Date: 5 p.m. Eastern Time on Wednesday, November 4, 2009.

Docket Numbers: ER10-44-000.

Applicants: Ameren Services Company.

Description: Illinois Power Co. submits the Transmission Construction Agreement between Ameren Services and Prairie State Generating Company, LLC, to be effective 10/6/09.

Filed Date: 10/13/2009.

Accession Number: 20091014-0081.

Comment Date: 5 p.m. Eastern Time on Tuesday, November 3, 2009.

Docket Numbers: ER10-45-000.

Applicants: Southwest Power Pool, Inc.

Description: Southwest Power Pool, Inc. submits revised pages to its Open Access Transmission Tariff to incorporate a revenue requirement and a transportation cost of service formula rate for ITC Great Plains, LLC.

Filed Date: 10/13/2009.

Accession Number: 20091014-0080.

Comment Date: 5 p.m. Eastern Time on Tuesday, November 3, 2009.

Docket Numbers: ER10-46-000.

Applicants: PacifiCorp.

Description: PacfiCorp submits notices of termination of Service Agreement No. 368 et al.

Filed Date: 10/13/2009.

Accession Number: 20091014-0078.

Comment Date: 5 p.m. Eastern Time on Tuesday, November 3, 2009.

Docket Numbers: ER10-48-000.

Applicants: Entergy Services, Inc.

Description: Entergy Gulf States Louisiana, LLC et al. submits the EAI-EGSL Contracts et al. and ask the Commission to grant any waivers of the requirements in 18 CFR, Part 35.

Filed Date: 10/13/2009.

Accession Number: 20091014-0077.

Comment Date: 5 p.m. Eastern Time on Tuesday, November 3, 2009.

Docket Numbers: ER10-49-000.

Applicants: San Diego Gas & Electric Company.

Description: San Diego Gas & Electric Company submits Engineering and Procurement Agreement dated 10/8/09 with El Cajon Energy, LLC, to be designated as Service Agreement 10 under FERC Electric Tariff, Volume 6.

Filed Date: 10/13/2009.

Accession Number: 20091014-0076.

Comment Date: 5 p.m. Eastern Time on Tuesday, November 3, 2009.

Docket Numbers: ER10-50-000.

Applicants: PacifiCorp.

Description: PacifiCorp submits Original Service No 1 et al. to FERC Electric Tariff, Seventh Revised Volume 11, Second Revised Service Agreement 66.

Filed Date: 10/13/2009.

Accession Number: 20091014-0088.

Comment Date: 5 p.m. Eastern Time on Tuesday, November 3, 2009.

Docket Numbers: ER10-51-000.

Applicants: PacifiCorp.

Description: PacifiCorp submits Small Generator Interconnection Agreement Facilities Maintenance Agreement dated 10/1/09 with Lakeview Biomass, LLC designated as Service Agreement 609 etc.

Filed Date: 10/13/2009.

Accession Number: 20091014-0087.

Comment Date: 5 p.m. Eastern Time on Tuesday, November 3, 2009.

Docket Numbers: ER10-52-000.

Applicants: ISO New England Inc. & New England Power.

Description: ISO New England Inc et al. submits First Revised Sheet 8305 et al. to FERC Electric Tariff 3, Section III—Market Rule 1—Standard Market Design—Appendix J—Alternative Technologies Regulation Pilot Program to be effective 12/13/09.

Filed Date: 10/13/2009.

Accession Number: 20091014-0086.

Comment Date: 5 p.m. Eastern Time on Tuesday, November 3, 2009.

Docket Numbers: ER10-53-000.

Applicants: Midwest Independent Transmission System Operator, Inc.

Description: Midwest Independent Transmission System Operator, Inc submits an Amended and Restated Small Generator Interconnection Agreement.

Filed Date: 10/13/2009.

Accession Number: 20091015-0070.

Comment Date: 5 p.m. Eastern Time on Tuesday, November 3, 2009.

Docket Numbers: ER10-55-000.

Applicants: PJM Interconnection, L.L.C.

Description: PJM Interconnection, LLC submits an executed interconnection construction service agreement with Blackstone Wind Farm LLC et al.

Filed Date: 10/13/2009.

Accession Number: 20091014-0090.

Comment Date: 5 p.m. Eastern Time on Tuesday, November 3, 2009.

Docket Numbers: ER10-56-000.

Applicants: MidAmerican Energy Company.

Description: MidAmerican Energy Company et al. submits jointly executed Joint Pricing Zone Revenue Allocation Agreement.

Filed Date: 10/14/2009.

Accession Number: 20091014-0091.

Comment Date: 5 p.m. Eastern Time on Wednesday, November 4, 2009.

Docket Numbers: ER10-57-000.

Applicants: PacifiCorp.

Description: PacifiCorp submits Large Generator Interconnection Agreement Facilities Maintenance Agreement etc.

Filed Date: 10/14/2009.

Accession Number: 20091014-0093.

Comment Date: 5 p.m. Eastern Time on Wednesday, November 4, 2009.

Docket Numbers: ER10-58-000.

Applicants: Oncor Electric Delivery Company LLC.

Description: Oncor Electric Delivery Co submits FERC Electric Tariff, Seventh Revised Volume No. 2.

Filed Date: 10/14/2009.

Accession Number: 20091014-0094.

Comment Date: 5 p.m. Eastern Time on Wednesday, November 4, 2009.

Docket Numbers: ER10-59-000.

Applicants: Oncor Electric Delivery Company LLC.

Description: Oncor Electric Delivery Co submits FERC Electric Tariff, Twelfth Revised Volume No. 1.

Filed Date: 10/14/2009.

Accession Number: 20091014-0095.

Comment Date: 5 p.m. Eastern Time on Wednesday, November 4, 2009.

Docket Numbers: ER10-60-000.

Applicants: Virginia Electric and Power Company.

Description: Virginia Electric and Power Company submits executed Service Agreement for Wholesale Distribution Service with WM Renewable Energy, LLC.

Filed Date: 10/14/2009.

Accession Number: 20091015-0067.

Comment Date: 5 p.m. Eastern Time on Wednesday, November 4, 2009.

Docket Numbers: ER10-61-000.

Applicants: ISO New England Inc., New England Power Pool.

Description: ISO New England, Inc et al submits revisions to the Forward Capacity Market rules and requests expedited consideration of revisions, to be effective 11/3/09.

Filed Date: 10/14/2009.

Accession Number: 20091015-0068.

Comment Date: 5 p.m. Eastern Time on Wednesday, November 4, 2009.

Docket Numbers: ER10-62-000.

Applicants: ISO New England Inc., New England Power Pool.

Description: ISO New England, Inc et al. submits revisions to Financial Assurance Policy & request for expedited consideration of filing with an effective date of 11/13/09.

Filed Date: 10/14/2009.

Accession Number: 20091015-0066.

Comment Date: 5 p.m. Eastern Time on Wednesday, November 4, 2009.

Docket Numbers: ER10-63-000.

Applicants: Potomac Electric Power Company.

Description: Potomac Electric Power Company submits executed Interconnection and Mutual Operating Agreement with Southern Maryland Electric Cooperative, Inc designated as Original Service Agreement 2303 to FERC Elect Tariff, Sixth Revised Volume 1.

Filed Date: 10/14/2009.

Accession Number: 20091015-0065.

Comment Date: 5 p.m. Eastern Time on Wednesday, November 4, 2009.

Docket Numbers: ER10-65-000.

Applicants: New York Independent System Operator, Inc.

Description: New York Independent System Operator, Inc submits proposed revisions to its Market Administration and Control Area Services Tariff to address notification protocols for market problems etc.

Filed Date: 10/14/2009.

Accession Number: 20091015-0091.

Comment Date: 5 p.m. Eastern Time on Wednesday, November 4, 2009.

Docket Numbers: ER10-66-000.

Applicants: Southwest Power Pool, Inc.

Description: Southwest Power Pool, Inc submits executed Large Generator Interconnection Agreement between SPP, Southwestern Public Service Company, et al.

Filed Date: 10/14/2009.

Accession Number: 20091015-0090.

Comment Date: 5 p.m. Eastern Time on Wednesday, November 4, 2009.

Take notice that the Commission received the following electric securities filings:

Docket Numbers: ES09-41-001.

Applicants: PATH West Virginia Transmission Company, LLC.

Description: PATH West Virginia Transmission Company, LLC Supplemental Filing.

Filed Date: 10/13/2009.

Accession Number: 20091013-5233.

Comment Date: 5 p.m. Eastern Time on Friday, October 23, 2009.

Docket Numbers: ES09-42-001.

Applicants: PATH Allegheny Transmission Company, LLC.

Description: PATH Allegheny Transmission Company, LLC and PATH Allegheny Virginia Transmission Corporation Supplemental Filing.

Filed Date: 10/13/2009.

Accession Number: 20091013-5267.

Comment Date: 5 p.m. Eastern Time on Friday, October 23, 2009.

Docket Numbers: ES10-3-000.

Applicants: Mississippi Power Company.

Description: Application of Mississippi Power Company for Authorization to Issue Securities and Request for Exemption from Competitive Bidding Requirements.

Filed Date: 10/14/2009.

Accession Number: 20091014-5373.

Comment Date: 5 p.m. Eastern Time on Wednesday, November 4, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-25692 Filed 10-23-09; 8:45 am]

BILLING CODE 6717-01-P